DEPARTMENT OF COMMERCE

Foreign-Trade Zones Board

[Order No. 1542]

Reorganization and Expansion of Foreign-Trade Zone 39 Dallas/Fort Worth, TX, Area

Pursuant to its authority under the Foreign-Trade Zones Act of June 18, 1934, as amended (19 U.S.C. 81a-81u), the Foreign-Trade Zones Board (the Board) adopts the following Order:

Whereas, the Dallas/Fort Worth International Airport Board, grantee of Foreign-Trade Zone 39, submitted an application to the Board for authority to reorganize and expand Site 2 (Dallas Logistics Hub-1,949 acres) and to expand the zone to include additional sites located at the Duke Intermodal Park in Hutchins (Site 7-39 acres), within the Sunridge Business Park in Wilmer (Site 8-434 acres), at the Dalport Business Park in Wilmer (Site 9-356 acres), within the Lancaster Municipal Airport Complex in Lancaster (Site 10-50 acres), at the ProLogis 20/35 Industrial Park in Lancaster (Site 11-175 acres), and at the Crossroads Trade Center in DeSoto (Site 12-112 acres), within the Dallas Customs and Border Protection port of entry (FTZ Docket 35-2007, filed 8/8/07);

Whereas, notice inviting public comment was given in the Federal Register (72 FR 46603, 8/21/07) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to reorganize and expand FTZ 39 is approved, subject to the FTZ Act and the Board's regulations, including Section 400.28, and subject to the Board's standard 2,000-acre activation limit for the overall general-purpose zone project, and further subject to a sunset provision that would terminate authority on March 31, 2015, for Sites 2, 7, 8, 9, 11 and 12 where no activity has occurred under FTZ procedures before that date.

Signed at Washington, DC, this 27th day of February 2008.
David M. Spooner,
Assistant Secretary of Commerce for Import Administration, Alternate Chairman, Foreign-Trade Zones Board.

ATTEST:

Andrew McGilvray,

Executive Secretary.

[FR Doc. E8-5048 Filed 3-12-08; 8:45 am]

BILLING CODE 3510-DS-P